ENVIRONMENTAL PROTECTION AGENCY

[FRL OP-OFA-187]

Environmental Impact Statements; Notice of Availability

Responsible Agency: Office of Federal Activities, General Information 202-564-5632 or https://www.epa.gov/nepa.

Weekly receipt of Environmental Impact Statements (EIS)

Filed July 7, 2025 10 a.m. EST Through July 14, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250095, Draft, USN, WA, Bremerton Waterfront Infrastructure Improvements at Puget Sound Naval Shipyard and Intermediate Maintenance Facility, Comment Period Ends: 09/03/2025, Contact: Rory Lee 360-509-6379.

EIS No. 20250096, Final, TVA, TN, Allen Aeroderivative Combustion Turbine Project, Review Period Ends: 08/18/2025, Contact: Matthew Higdon 865-632-8051.

Dated: July 14, 2025.
Nancy Abrams,
Associate Director, Office of Federal Activities.

[FR Doc. 2025-13523 Filed 7-17-25; 8:45 am]

BILLING CODE 6560-50-P